DEPARTMENT OF ENERGY

Federal Energy Regulatory Commission

[Docket No. RP01-57-000]

MIGC, Inc.; Notice of Proposed Changes in FERC Gas Tariff

October 19, 2000.

Take notice that on October 17, 2000, MIGC, Inc. (MIGC) tendered for filing as part of its FERC Gas Tariff, First Revised Volume No. 1, the following revised tariff sheets which are proposed to be made effective as of November 1, 2000:

Fifth Revised Sheet No. 89

First Revised Title Sheet

MIGC states that this filing is being submitted for general “housekeeping” purposes, specifically, to include in its tariff references to MIGC's Internet website for the name of a contact person familiar with the MIGC tariff and for current information concerning operating personnel and facilities shared by the pipeline and its marketing affiliate. The filing also includes a copy of MIGC's current tariff provisions permitting shipper imbalance trading and netting, to evidence the company's compliance with FERC Order No. 587-L.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27492 Filed 10-25-00; 8:45 am]

BILLING CODE 6717-01-M